DEPARTMENT OF DEFENSE

Office of the Secretary

President's Information Technology Advisory Committee (PITAC)

AGENCY: Office of the Secretary, DoD.

ACTION: Notice of meeting.

SUMMARY: This PITAC meeting will focus on the US government investment in information technology and networking and some specific applications including medicine and security. A final agenda will be posted on the PITAC Web site (http://www.itrd.gov/pitac/index.html) approximately two weeks before the meeting.

DATES: Friday, November 12, 2003, 11:30 a.m. to 2:30 p.m.

ADDRESSES: Noesis-Inc., 4100 North Fairfax Drive, Suite 800, Arlington, VA.

SUPPLEMENTARY INFORMATION: Members of the public are invited to attend and participate by: (1) Submitting written statements to the organizers and; (2) giving a brief (three minutes or less) oral statement during the 30 minute public comment period on the meeting agenda. The meeting will be held on-line via the Internet using Webex. Participants may attend the meeting in person at the designated site. Ten remote on-line places have also been designated for public participants who wish to join the meeting via the Internet. Individuals wishing to participate on-line must call the National Coordination Office for Information Technology Research and Development to register and be invited to the meeting.

FOR FURTHER INFORMATION CONTACT: The ITRD office at 703-292-4873 or by e-mail at pitac@itrd.gov.

Dated: October 6, 2003.
Patricia Toppings,
Alternate OSD Federal Register Liaison Officer, Department of Defense.

[FR Doc. 03-25848 Filed 10-10-03; 8:45 am]

BILLING CODE 5001-08-M